DEPARTMENT OF TRANSPORTATION

Federal Railroad Administration

Notice of Informational Filing

In accordance with Section 236.913 of Title 49 of the Code of Federal Regulations (CFR), notice is hereby given that the Federal Railroad Administration (FRA) has received an informational filing from the Marquette Rail, LLC to permit field testing of the TrackAccess System in the autonomous mode without a dispatcher. The informational filing is described below, including the requisite docket number where the informational filing and any related information may be found. The document is also available for public inspection; however, FRA is not accepting public comments.

Marquette Rail, LLC

[Docket Number FRA-2008-0081]

The Marquette Rail, LLC has submitted an informational filing to permit field testing of the software-based dispatch system for low density lines identified as TrackAccess System. The informational filing addresses the requirements under 49 CFR 236.913(j)(1). Specifically, the informational filing contains a description of the TrackAccess product and an operational concepts document, pursuant to 49 CFR 236.913(j)(1).

TrackAccess is an electronic track occupancy system similar to the conventional block register. It is designed to protect the area of exclusive track occupancy given to roadway workers or train crew members by excluding the possibility of electronic issuance of conflicting track occupancy authorities. TrackAccess aims to reduce the potential for human errors associated with issuance of track occupancy authorities to roadway workers and train crews by the dispatcher. In its autonomous mode of operation, the TrackAccess System assumes electronic delivery of track occupancy authorities to roadway workers and train crews.

The Marquette Rail, LLC desires to commence field testing of the product on or about March 1, 2010, or as soon thereafter as practicable, contingent upon FRA acceptance and approval of their informational filing.

Interested parties are invited to review the informational filing and associated documents at DOT's Docket Management Facility during regular business hours (9 a.m.-5 p.m.) at 1200 New Jersey Avenue. SE., Room W12-140, Washington DC 20590. All documents in the public docket are available for inspection and copying on the Internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, number 70; Pages 19477-78).

Issued in Washington, DC on February 25, 2010.
Grady C. Cothen, Jr.,
Deputy Associate Administrator for Safety, Standards and Program Development.

[FR Doc. 2010-4334 Filed 3-2-10; 8:45 am]

BILLING CODE 4910-06-P